DEPARTMENT OF THE INTERIOR

Geological Survey

[GX15EE000101100]

Announcement of National Geospatial Advisory Committee Meeting

AGENCY: U.S. Geological Survey, Interior.

ACTION: Notice of meeting.

SUMMARY: The National Geospatial Advisory Committee (NGAC) will meet on December 3, 2014, from 1:00 p.m. to 4:00 p.m. EST. The meeting will be held via web conference and teleconference.

The NGAC, which is composed of representatives from governmental, private sector, non-profit, and academic organizations, has been established to advise the Chair of the Federal Geographic Data Committee on management of Federal geospatial programs, the development of the National Spatial Data Infrastructure, and the implementation of Office of Management and Budget (OMB) Circular A-16. Topics to be addressed at the meeting include:

—FGDC Update

— Address Data

—Landsat Advisory Group

—Geospatial Privacy

—2015 NGAC Activities

Members of the public who wish to attend the meeting must register in advance. Please register by contacting Lucia Foulkes at the Federal Geographic Data Committee (703-648-4142, lfoulkes@usgs.gov). Meeting registrations are due by November 28, 2014. Meeting information (web conference and teleconference instructions) will be provided to registrants prior to the meeting. While the meeting will be open to the public, attendance may be limited due to web conference and teleconference capacity.

The meeting will include an opportunity for public comment. Attendees wishing to provide public comment should register by November 28. Please register by contacting Lucia Foulkes at the Federal Geographic Data Committee (703-648-4142, lfoulkes@usgs.gov). Comments may also be submitted to the NGAC in writing.

DATES: The meeting will be held on December 3, 2014, from 1:00 p.m. to 4:00 p.m. EST.

FOR FURTHER INFORMATION CONTACT: John Mahoney, U.S. Geological Survey (206-220-4621).

SUPPLEMENTARY INFORMATION: Meetings of the National Geospatial Advisory Committee are open to the public. Additional information about the NGAC and the meeting are available at www.fgdc.gov/ngac.

Kenneth Shaffer,
Deputy Executive Director, Federal Geographic Data Committee.

[FR Doc. 2014-26863 Filed 11-12-14; 8:45 am]

BILLING CODE 4311-AM-P